DEPARTMENT OF TRANSPORTATION

Office of the Secretary

Aviation Proceedings, Agreements Filed During the Week Ending March 22, 2002

The following Agreements were filed with the Department of Transportation under the provisions of 49 U.S.C. Sections 412 and 414. Answers may be filed within 21 days after the filing of the application.

Docket Number: OST-2002-11867.

Date Filed: March 18, 2002.

Parties: Members of the International Air Transport Association.

Subject: PTC2 ME-AFR 0078 dated 26 February 2002, TC2 Middle East-Africa Expedited Resolution 002qq r1. PTC2 ME-AFR 0079 dated 8 March 2002, TC2 Middle East-Africa Resolutions r2-r17. Minutes—PTC2 ME-AFR 0080 dated 12 March 2002, Tables—PTC2 ME-AFR Fares 0050 dated 8 March 2002. Intended effective date: 30 April 2002, 1 May 2002.

Docket Number: OST-2002-11869.

Date Filed: March 18, 2002.

Parties: Members of the International Air Transport Association.

Subject: PTC2 EUR-ME 0131 dated 12 March 2002, Mail Vote 209—Resolution 010i, TC2 Europe-Middle East Special Passenger, Amending Resolutions r1-r3. PTC2 EUR-ME 0132 dated 15 March 2002. Technical Correction to PTC2 EUR-ME 0131. Intended effective date: 15 March 2002.

Cynthia L. Hatten,
Federal Register Liaison.

[FR Doc. 02-7911 Filed 4-1-02; 8:45 am]

BILLING CODE 4910-62-P